DEPARTMENT OF COMMERCE

National Oceanic and Atmospheric Administration

Proposed Extension of a Currently Approved Information Collection; Comment Request; Aleutian Islands Pollock Fishery

AGENCY: National Oceanic and Atmospheric Administration (NOAA), Commerce.

ACTION: Notice.

SUMMARY: The Department of Commerce, as part of its continuing effort to reduce paperwork and respondent burden, invites the general public and other Federal agencies to take this opportunity to comment this continuing information collection, as required by the Paperwork Reduction Act of 1995.

DATES: Written comments must be submitted on or before July 9, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Gabrielle Aberle, 907-586-7228.

SUPPLEMENTARY INFORMATION:

I. Abstract

This request is for extension of a currently approved information collection.

Amendment 82 to the Fishery Management Plan for Groundfish of the Bering Sea and Aleutian Islands Management Area (FMP) established a framework for the management of the Aleutian Islands subarea (AI) directed pollock fishery. An AI pollock fishery was allocated to the Aleut Corporation, Adak, Alaska, for the purpose of economic development in Adak, Alaska. The Aleut Corporation is identified in Public Law 108-199 as a business incorporated pursuant to the Alaska Native Claims Settlement Act (43 U.S.C. 1601 et seq.). Regulations implementing the FMP appear at 50 CFR part 679.

Each year at least 14 days before harvesting pollock or processing pollock in the AI directed pollock fishery, the Aleut Corporation selects harvesting vessels and processors for participation in this fishery. The Aleut Corporation submits its selected participants to the National Marine Fisheries Service (NMFS) for approval. On approval, NMFS mails the Aleut Corporation a letter that includes a list of the approved participants. A copy of this letter must be retained on board each participating vessel and on site each shoreside processor at all times.

II. Method of Collection

The Aleut Corporation submits the participant letter to NMFS by mail.

III. Data

OMB Control Number: 0648-0513.

Form Number(s): None.

Type of Review: Regular submission (extension of a current information collection).

Affected Public: Business or other for-profit organizations.

Estimated Number of Respondents: 1.

Estimated Time per Response: Annual Aleutian Islands Fishery Participant Letter, 5 minutes.

Estimated Total Annual Burden Hours: 1.

Estimated Total Annual Cost to Public: $1 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 3, 2018.
Sarah Brabson,
NOAA PRA Clearance Officer.

[FR Doc. 2018-09834 Filed 5-8-18; 8:45 am]

BILLING CODE 3510-22-P